DEPARTMENT OF JUSTICE

[OMB No. 1121-0325]

Agency Information Collection Activities: Proposed Collection; Comments Requested; Research To Support the National Crime Victimization Survey (NCVS)

ACTION: 30-Day Notice of new collection.

The Department of Justice (DOJ), Office of Justice Programs, Bureau of Justice Statistics will be submitting the following information collection request to the Office of Management and Budget (OMB) for review and approval in accordance with the Paperwork Reduction Act of 1995. The proposed information collection is published to obtain comments from the public and affected agencies. This proposed information collection was previously published in the Federal Register Volume 77, Number 30, page 8277 on Tuesday February 14, 2012 allowing for a 60 day comment period. No comments were received in response to the information provided.

The purpose of this notice is to allow for an additional 30 days for public comment until May 23, 2012. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-7285.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: Extension of the time frame required to complete approved and ongoing methodological research on the National Crime Victimization Survey continuing beyond June 30, 2012. Generic clearance for future methodological research on the National Crime Victimization Survey.

(2) Title of the Form/Collection: National Crime Victimization Survey.

(3) Agency form number, if any, and the applicable component of the department sponsoring the collection: n/a.

(4) Affected public who will be asked or required to respond, as well as a brief abstract. Primary: Persons ages 12 or older are eligible for participation in the NCVS. This generic clearance will cover methodological research that will use existing or new sampled households with the same ages of respondents currently used in the NCVS.

(5) An estimate of the total number of respondents and the amount of time estimated for an average respondent to respond/reply: For ongoing redesign projects that have received OMB clearance or are currently under review, approximately 26,200 persons ages 18 or older are participating in the methodological research. Under the 2012 generic information clearance request, approximately 3,500 persons ages 18 or older will participate in the methodological research. The time for each respondent to participate will vary based on the study component. For studies currently in the field test stage, the average time to complete an interview request is 15 minutes. For developmental work such as cognitive interviewing and feasibility testing, the time for each respondent to participate will range from 1 to 2 hours.

(6) An estimate of the total public burden (in hours) associated with the collection: For ongoing redesign projects that have received OMB clearance or are currently under review, the total respondent burden is approximately 11,100 hours. Under the 2012 generic information clearance request, the total respondent burden is approximately 1,800 hours for the three years of this clearance.

If additional information is required contact: Jerri Murray, Department Clearance Officer, United States Department of Justice, Justice Management Division, Policy and Planning Staff, Two Constitution Square, 145 N Street NE., Room 2E-508, Washington, DC 20530.

Jerri Murray,
Department Clearance Officer, PRA, United States Department of Justice.

[FR Doc. 2012-9679 Filed 4-20-12; 8:45 am]

BILLING CODE 4410-18-P